DEPARTMENT OF TRANSPORTATION

National Highway Traffic Safety Administration

[Docket No. NHTSA-2026-0133]

Request for Comment on Vestigial Vehicle Safety Regulations

AGENCY: National Highway Traffic Safety Administration (NHTSA), Department of Transportation (DOT).

ACTION: Request for comments (RFC).

SUMMARY: In alignment with the Department's ongoing commitment to regulatory reform and the promotion of automotive innovation, NHTSA is seeking public comment to identify requirements and test procedures within the Federal Motor Vehicle Safety Standards (FMVSS) and regulations that no longer serve a functional safety purpose but continue to impose costs, stifle design creativity, or act as barriers to the deployment of new technologies. This request for comment specifically targets technical requirements that hinder the transition to technology-neutral, performance-based standards.

DATES: Comments must be received on or before March 24, 2026.

ADDRESSES: You may submit comments, identified by the docket number at the heading of this document, by any of the following methods:

• Federal eRulemaking Portal: Go to http://www.regulations.gov. Follow the online instructions for submitting comments.

• Mail: Docket Management Facility, U.S. Department of Transportation, 1200 New Jersey Avenue SE, West Building Ground Floor, Room W12-140, Washington, DC 20590.

FOR FURTHER INFORMATION CONTACT: Shashi Kuppa, Office of Crashworthiness Standards (shashi.kuppa@dot.gov). You can reach her by phone at 202-366-1810. Address: National Highway Traffic Safety Administration, U.S. Department of Transportation, 1200 New Jersey Avenue SE, Washington, DC 20590.

SUPPLEMENTARY INFORMATION:

Table of Contents

I. Background

II. Summary of 2025 Deregulatory Actions

III. Vestigial Standards and Regulations

IV. Request for Comment

V. Public Participation

I. Background

On April 3, 2025, the Department of Transportation (DOT) issued a request for information (RFI) notice ¹ seeking comments and information to assist DOT in identifying existing regulations, guidance, paperwork requirements, and other regulatory obligations that can be modified or repealed, as part of its implementation of Executive orders issued by the President, including Executive Order 14219, “Ensuring Lawful Governance and Implementation of the President's `Department of Government Efficiency' Deregulatory Agenda,” issued on February 19, 2025,² and Executive Order 14192, “Unleashing Prosperity through Deregulation,” issued on January 31, 2025.³ This effort was undertaken “to ensure that DOT administrative actions do not undermine the national interest and that DOT achieves meaningful burden reduction while continuing to meet statutory obligations and ensure the safety of the U.S. transportation system.” ⁴

¹ 90 FR 14593.

² 90 FR 10583.

³ 90 FR 9065.

⁴ Id.

II. Summary of 2025 Deregulatory Actions

Pursuant to Executive Order 14192, “to alleviate unnecessary regulatory burdens placed on the American people,” on May 30, 2025, NHTSA initiated 16 deregulatory actions, consisting of 15 Notices of Proposed Rulemaking (NPRMs) and one withdrawal of a pending action.⁵ These actions primarily target obsolete regulatory text and procedural requirements that no longer serve a safety purpose.

⁵ 90 FR 22964-23025.

While the Agency continues to finalize the actions identified in the May 30, 2025 NPRMs and evaluate the feedback from the April 3, 2025 RFI, we recognize that a more targeted inquiry is needed. This notice focuses on the technical substance of safety standards and regulations that no longer serve a functional safety purpose but continue to impose costs, stifle design creativity, or act as barriers to the deployment of new technologies. These standards and regulations, similar to vestigial organs—such as the appendix or wisdom teeth—which may have served a vital purpose in a previous evolutionary stage, no longer serve a functional role and, in some cases, can cause harm.

III. Vestigial Standards and Regulations

Many FMVSSs were drafted with high specificity regarding testing inputs and hardware designs that were appropriate for the technology of the 1970s or 1980s. Since that time, vehicle designs and architectures have changed in fundamental ways, ranging from increased electronification and electrification to the advent of automated driving systems (ADS). Certain prescriptive requirements contained within FMVSS have not been updated to reflect the vehicles of today, let alone future technologies. Such requirements can stifle innovative technologies, and limit design creativity and superior safety innovations in ways completely removed from the safety performance requirements and underlying safety purposes of the FMVSS. These technical requirements often ossify, forcing manufacturers to design for a specific test procedure rather than for the underlying safety objective. When a standard or regulation requires a manufacturer to meet a specific hardware-based requirement or test procedure that has no modern safety benefit, it stifles the very innovation the National Traffic and Motor Vehicle Safety Act was intended to encourage.

IV. Request for Comment

Pursuant to the Executive Orders described herein, this request for comments is seeking input from the public on requirements and test procedures specified in FMVSS and regulations that are obsolete, no longer necessary, justified or sensical, and can be removed or modified without compromising motor vehicle safety. NHTSA is particularly interested in identifying safety standards and regulations that:

1. Require specific hardware or design elements that have been superseded by more effective modern technology.

2. Contain testing procedures that are incompatible with or unnecessarily restrictive for innovative vehicle designs (e.g., vehicles without traditional manual controls).

3. Impose compliance burdens that do not result in a measurable increase in real-world safety.

4. Act as a barrier to entry for new safety technologies by failing to be technology-neutral.

NHTSA requests that commenters provide specific citations to the FMVSS or other regulations administered by NHTSA and provide data or technical analysis demonstrating how the regulation has become vestigial.

NHTSA is currently reviewing and considering all comments received in response to the April 3, 2025, RFI notice. Commenters who provided feedback during that process do not need to resubmit those comments for this proceeding. This request for comments is intended to supplement that broader effort by focusing specifically on the technical vestigial nature of vehicle safety standards.

V. Public Participation

Interested parties are strongly encouraged to submit thorough and detailed comments relating to each of the relevant areas discussed in this notice. Comments submitted will help NHTSA make informed decisions as it strives to advance its deregulatory agenda.

How do I prepare and submit comments?

Your comments must be written and in English. To ensure that your comments are correctly filed in the Docket, please include the docket number indicated in this document in your comments.

Your comments must not be more than 15 pages long (49 CFR 553.21). NHTSA established this limit to encourage you to write your primary comments in a concise fashion. However, you may attach necessary additional documents to your comments. There is no limit on the length of the attachments.

If you are submitting comments electronically as a PDF (Adobe) file, NHTSA asks that the documents submitted be scanned using an Optical Character Recognition (OCR) process, thus allowing NHTSA to search and copy certain portions of your submissions.

Please note that pursuant to the Data Quality Act, in order for substantive data to be relied upon and used by the Agency, it must meet the information quality standards set forth in the OMB and DOT Data Quality Act guidelines. Accordingly, we encourage you to consult the guidelines in preparing your comments. OMB's guidelines may be accessed at https://www.transportation.gov/regulations/dot-information-dissemination-quality-guidelines.

How do I submit confidential business information?

You should submit a redacted “public version” of your comment (including redacted versions of any additional documents or attachments) to the docket using any of the methods identified under ADDRESSES. This “public version” of your comment should contain only the portions for which no claim of confidential treatment is made and from which those portions for which confidential treatment is claimed has been redacted. See below for further instructions on how to do this.

You also need to submit a request for confidential treatment directly to the Office of Chief Counsel. Requests for confidential treatment are governed by 49 CFR part 512. Your request must set forth the information specified in Part 512. This includes the materials for which confidentiality is being requested (as explained in more detail below); supporting information, pursuant to § 512.8; and a certificate, pursuant to § 512.4(b) and part 512, Appendix A.

You are required to submit to the Office of the Chief Counsel one unredacted “confidential version” of the information for which you are seeking confidential treatment. Pursuant to § 512.6, the words “ENTIRE PAGE CONFIDENTIAL BUSINESS INFORMATION” or “CONFIDENTIAL BUSINESS INFORMATION CONTAINED WITHIN BRACKETS” (as applicable) must appear at the top of each page containing information claimed to be confidential. In the latter situation, where not all information on the page is claimed to be confidential, identify each item of information for which confidentiality is requested within brackets: “[ ].”

You are also required to submit to the Office of the Chief Counsel one redacted “public version” of the information for which you are seeking confidential treatment. Pursuant to § 512.5(a)(2), the redacted “public version” should include redactions of any information for which you are seeking confidential treatment (i.e., the only information that should be unredacted is information for which you are not seeking confidential treatment).

NHTSA is currently treating electronic submission as an acceptable method for submitting confidential business information to the Agency under Part 512. Please do not send a hardcopy of a request for confidential treatment to NHTSA's headquarters. The request should be sent to Dan Rabinovitz in the Office of the Chief Counsel at Daniel.Rabinovitz@dot.gov. You may either submit your request via email or request a secure file transfer link. If you are submitting the request via email, please also email a courtesy copy of the request to Shashi Kuppa at shashi.kuppa@dot.gov.

Will the Agency consider late comments?

We will consider all comments received before the close of business on the comment closing date indicated above under DATES. To the extent possible, we will also consider comments that the docket receives after that date.

How can I read the comments submitted by other people?

You may read the materials placed in the docket for this document (e.g., the comments submitted in response to this document by other interested persons) at any time by going to http://www.regulations.gov. Follow the online instructions for accessing the dockets. You may also read the materials at the Docket Management Facility by going to the street address given above under ADDRESSES. The Docket Management Facility is open between 9 a.m. and 5 p.m. Eastern Time, Monday through Friday, except Federal holidays.

Please note that even after the comment closing date, we will continue to file relevant information on the docket as it becomes available. Further, some people may submit late comments. Accordingly, we recommend that you periodically check the docket for new material.

Issued under authority delegated in 49 CFR 1.95.
Jonathan Morrison,
Administrator.

[FR Doc. 2026-01272 Filed 1-22-26; 8:45 am]

BILLING CODE 4910-59-P